FEDERAL TRADE COMMISSION

Agency Information Collection Activities; Proposed Collection; Comment Request

AGENCY: Federal Trade Commission (“FTC” or “Commission”).

ACTION: Notice.

SUMMARY: The FTC intends to conduct consumer survey research to advance its understanding of the experiences of consumers who interact with consumer reporting agencies following an incident of identity theft. The results of this research will inform and guide the FTC’s future enforcement and education efforts. Before gathering information, the FTC is seeking public comments on its proposed consumer research. Comments will be considered before the FTC submits a request for Office of Management and Budget (“OMB”) review under the Paperwork Reduction Act (“PRA”).

DATES: Comments must be filed by September 2, 2008.

ADDRESSES: Interested parties are invited to submit written comments. Comments should refer to “Consumer Experiences with CRAs Research: FTC File No. P065405,” to facilitate the organization of comments. A comment filed in paper form should include this reference both in the text and on the envelope and should be mailed or delivered to the following address: Federal Trade Commission, Room H-135 (Annex J), 600 Pennsylvania Ave., N.W., Washington, D.C. 20580. Because paper mail in the Washington area and at the FTC is subject to delay, please consider submitting your comments in electronic form, as prescribed below. If, however, the comment contains any material for which confidential treatment is requested, it must be filed in paper form, and the first page of the document must be clearly labeled “Confidential.”¹

¹ Commission Rule 4.2(d), 16 CFR 4.2(d). The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments filed in electronic form should be submitted by following the instructions on the web-based form at: (https://secure.commentworks.com/ftc-factasurvey). To ensure that the Commission considers an electronic comment, you must file it on the web-based form at the (https://secure.commentworks.com/ftc-factasurvey) weblink. If this notice appears at (www.regulations.gov), you may also file an electronic comment through that website. The Commission will consider all comments that regulations.gov forwards to it.

The FTC Act and other laws the Commission administers permit the collection of public comments to consider and use in this proceeding as appropriate. All timely and responsive public comments will be considered by the Commission and will be available to the public on the FTC website, to the extent practicable, at www.ftc.gov. As a matter of discretion, the FTC makes every effort to remove home contact information for individuals from the public comments it receives before placing those comments on the FTC website. More information, including routine uses permitted by the Privacy Act, may be found in the FTC’s privacy policy at (http://www.ftc.gov/ftc/privacy.htm).

FOR FURTHER INFORMATION CONTACT: Requests for additional information should be addressed to Pavneet Singh or Anthony Rodriguez, Attorneys, Division of Privacy and Identity Protection, Bureau of Consumer Protection, Federal Trade Commission, 600 Pennsylvania Avenue, N.W., Mail Stop NJ-3158, Washington, DC 20580, (202) 326-2252.

SUPPLEMENTARY INFORMATION: Under the PRA, 44 U.S.C. 3501-3521, federal agencies must obtain approval from OMB for each collection of information they conduct or sponsor. “Collection of information” means agency requests or requirements that members of the public submit reports, keep records, or provide information to a third party. 44 U.S.C. 3502(3); 5 CFR 1320.3(c). As required by section 3506(c)(2)(A) of the PRA, the FTC is providing this opportunity for public comment before requesting that OMB provide paperwork clearance for the information collection noted herein.

The FTC invites comments on: (1) whether the proposed collections of information are necessary for the proper performance of the functions of the agency, including whether the information has practical utility; (2) the accuracy of the agency’s estimate of the burden of the proposed collections of information; (3) ways to enhance the quality, utility, and clarity of the information to be collected; and (4) ways to minimize the burden of the collections of information on those who are to respond, including through the use of appropriate automated, electronic, mechanical, or other technological collection techniques or other forms of information technology, e.g., permitting electronic submission of responses.

All comments should be filed as prescribed in the ADDRESSES section above, and must be received on or before September 2, 2008.

1. Description of the collection of information and proposed use

The Fair Credit Reporting Act (“FCRA”) provides identity theft victims with certain rights, such as the ability to place fraud alerts on their credit files, designed to assist them in avoiding or mitigating the harms they suffer as a result of the crime.

The Commission intends to use consumer survey research to advance its understanding of the experiences of identity theft victims who interact with consumer reporting agencies (CRAs) and who seek to avail themselves of their FCRA remedies. The consumer research will include focus group interviews of 30 consumers, to be followed by a pretesting phase consisting of phone interviews of another 30 consumers, and then mail surveys sent to individual consumers. The Commission seeks information from consumers who have been victims of identity theft and who have contacted one or more of the three nationwide CRAs for assistance. The information from consumers will be collected on a voluntary basis and will be maintained anonymously. The FTC staff will identify consumers to be contacted for each phase of the research from a random selection of consumers who have communicated with the FTC’s Identity Theft Data Clearinghouse database between January 1, 2008 and May 30, 2008. Staff is seeking approximately 1,000 returned surveys because that input would enable it to project the results from the sample to the population from which the sample was drawn with a maximum error rate of 3%. Assuming a response rate of about 25% - 30%, this would require staff to mail the survey to approximately 3,000 - 4,000 individuals.

Questions to identity theft victims in the research will address several topics, including but not limited to: victim experiences when they contacted one or more CRAs and whether they received the required notice of rights from CRAs; their access to free credit reports; and their ability to place fraud alerts on their files, dispute inaccurate information, and block information due to identity theft. The results of the focus groups and mail surveys will assist the FTC in assessing the experiences of identity theft victims when they interact with CRAs. This assessment will help to inform and guide the FTC’s future efforts to enforce provisions of the FCRA and to educate consumers and the consumer reporting industry of their rights and obligations under the FCRA.

2. Estimated hours burden

The FTC staff intends to include a total of 30 consumers divided between three separate focus groups, consisting of 10 per group, and estimates that each consumer will take approximately one hour to participate in the focus groups. Thus, the estimated annual burden imposed by the focus groups will be approximately 30 hours. The staff estimates that respondents to the mail survey will require, on average, approximately 8 minutes to answer the survey (based on anticipated variations among consumers when they interacted with CRAs). The staff will pretest the survey through phone interviews of approximately 30 respondents to ensure that all questions are easily understood. The pretest will take approximately 4 hours as a whole (30 respondents x 8 minutes each). For the full survey, the staff intends to mail 3,000-4,000 surveys and anticipates receiving a response rate as high as 30% of the consumer recipients (i.e., 900 - 1,200 responses). Assuming 1,200 consumers respond to the survey, the staff further estimates the final survey will require approximately 160 hours to complete (1,200 respondents x 8 minutes each). Thus, cumulative burden hours for the clearance would total 194 hours.

3. Estimated cost burden

The cost per respondent should be negligible. Participation is voluntary and will not require start-up, capital, or labor expenditures by respondents.

William Blumenthal
General Counsel

[FR Doc. E8-14866 Filed 6-30-08: 8:45 am]

BILLING CODE 6750-01-S